DEPARTMENT OF TRANSPORTATION

Federal Transit Administration

[FTA Docket No. FTA-2007-28563]

Notice of Request for the Revision of Currently Approved Information Collection

AGENCY: Federal Transit Administration, DOT.

ACTION: Notice of request for comments.

SUMMARY: In accordance with the Paperwork Reduction Act of 1995 (44 U.S.C. 35001 et seq.), this notice announces the intention of the Federal Transit Administration (FTA) to request the Office of Management and Budget (OMB) to approve the revision of the currently approved information collection: 49 U.S.C. 5335(a) and (b) National Transit Database NTD). FTA would like to add the collection of rural transit data under the NTD to this collection, as mandated by the Safe, Accountable, Flexible, Efficient Transportation Equity Act: A Legacy for Users (SAFETEA-LU), enacted August 10, 2005.

DATES: Comments must be submitted before August 27, 2007.

ADDRESSES: You may mail or hand-deliver comments to the U.S. Department of Transportation, Dockets Management Facility, Room PL-401, 400 Seventh Street, SW., Washington, DC 20590. Comments may also be faxed to (202) 493-2251; or submitted electronically at http://dms.dot.gov. All comments should include the docket number in this notice's heading. All comments may be examined and copied at the above address from 9 a.m. to 5 p.m., Monday through Friday, except Federal holidays. If you desire a receipt, you must include a self-addressed, stamped envelope or postcard or, if you submit your comments electronically, you may print the acknowledgement page.

FOR FURTHER INFORMATION CONTACT: John D. Giorgis, National Transit Database Contracting Officer's Technical Representative, Office of Budget and Policy, FTA, phone: 202-366-5430, fax: 202-366-7989, or e-mail: john.giorgis@dot.gov or you may contact Shauna J. Coleman, Office of Chief Counsel, FTA, phone: 202-366-4063, fax: 202-366-3809, or e-mail: shauna.coleman@dot.gov.

SUPPLEMENTARY INFORMATION: Interested parties are invited to send comments regarding any aspect of this information collection, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of this information collection.

Title: 49 U.S.C. 5335(a) and (b) National Transit Database.

(OMB Number: 2132-0008).

Background: Title 49 U.S.C. 5335(a) and (b) requires the Secretary of Transportation to maintain a reporting system by uniform categories to accumulate mass transportation financial and operating information using a uniform system of accounts and records. Congress created the NTD to be the repository of transit data for the nation, on which to base public transportation service planning. Section 3033 of SAFETEA-LU amended 49 U.S.C. 5335 to require recipients of 49 U.S.C. 5311 grants to submit an annual report containing total annual revenue; sources of revenue; total annual operating costs; total annual capital costs; fleet size and type; and related facilities: Revenue vehicle miles and ridership. The addition of this requirement for recipients of 49 U.S.C. 5311 does not affect the existing NTD data collection from urbanized area agencies, including the mandatory NTD reporting requirement for recipients of 49 U.S.C. 5307 grants (Urbanized Area Formula grants).

FTA will not require these smaller rural agencies to submit the same level of detail to the NTD as a system in an urbanized area. FTA will only require the State Department of Transportation (DOT) to submit a one-page form for each rural agency in the State that is the recipient or beneficiary of grants under 49 U.S.C. 5311. Most State DOTs already produce reports for their State legislatures with this summary data. Additionally, FTA will require each State DOT to report the number of counties in the State that are served by recipients of grants under 49 U.S.C. 5311. For purposes of this data collection, Puerto Rico, American Samoa, Guam, and the Commonwealth of the Northern Mariana Islands will report as States (by 49 U.S.C. 5307(1). The U.S. Virgin Islands is an urbanized area for purposes of FTA grantmaking and does not receive grants under 49 U.S.C. 5311. Additionally, FTA will require this report from federally-recognized Native American tribes that are direct recipients of grants under 49 U.S.C. Section 5311 and whose information is not included in a report of a State DOT. The reporting requirements for this program have been developed after years of consultation with State DOTs and rural transit agencies.

On November 30, 2005, FTA published in the Federal Register (70 FR 71950, November 30, 2005) the procedures and start dates for mandatory annual reporting that State DOTs must follow when submitting rural transit data to FTA. The rural transit data reporting procedures are specified in the Rural NTD Module Reporting Manual which contains detailed reporting instructions for this data collection. It can be reviewed on the NTD Web site at http://www.ntdprogram.gov. and will be submitted for notice and comment in a future Federal Register announcement. For 2006, many States have reported data to the NTD for approximately 1,600 rural systems under a voluntary pilot program. The majority of States reported all of their data without any formal training.

FTA is requesting a revision of the currently approved NTD information collection (OMB Control Number 2132-008) to include the addition of rural reporting.

Rural Respondents: State DOTs and some tribal governments.

Estimated Annual Burden on Respondents: Approximately one hour is required to complete the one-page form for each of the 1,600 recipients of grants under 49 U.S.C. 5311. The average for each State DOT that files on behalf of the grant recipients is less than 31 hours each year.

Estimated Total Annual Rural Burden: 1,600 hours.

Frequency: Annual reports.

Urban reporting is currently included in the approved NTD information collection.

Urban Respondents: The respondents are primarily public transit authorities that are agencies of State and local governments. Reporters also include entities under contract to public transit agencies, such as, business or other for-profit institutions, non-profit institutions, and small business organizations.

Estimated Annual Urban Burden on Urban Respondents: There are 660 total potential respondents, of which 80 very small systems seek exemptions from filing. Annually, about 580 entities file detailed reports. The annual burden on each of the 580 respondents is 395 hours.

Estimated Total Annual Urban Burden: 229,100 hours.

Frequency: Primarily annual, with monthly safety, security and ridership reports.

Total Estimated Annual Burden for Rural and Urban Respondents: 230,700 hours.

Issued: June 20, 2007.
Ann M. Linnertz,
Associate Administrator for Administration.

[FR Doc. E7-12361 Filed 6-26-07; 8:45 am]

BILLING CODE 4910-57-P